SMALL BUSINESS ADMINISTRATION

Region IV District Advisory Council; Public Meeting

The U.S. Small Business Administration, North Florida District Office, Jacksonville, Florida, Advisory Council will hold a public meeting from 12:00 p.m. to 2:00 p.m., October 26, 2000, located at the University Center, 12000 Alumni Drive, University of North Florida, Jacksonville, Florida, to discuss such matters as may be presented by members, staff of the U.S. Small Business Administration, or others present. For further information write or call Claudia D. Taylor, U.S. Small Business Administration, 7825 Baymeadows Way, Suite 100-B, Jacksonville, Florida 32256 (904) 443-1933.

Bettie Baca,
Counselor to the Administrator/Public Liaison.

[FR Doc. 00-25369 Filed 10-2-00; 8:45 am]

BILLING CODE 8025-01-P